DEPARTMENT OF TRANSPORTATION

National Highway Traffic Safety Administration

[Docket No. NHTSA-2024-0037]

Uniform Procedures for State Highway Safety Grant Programs

AGENCY: National Highway Traffic Safety Administration (NHTSA), Department of Transportation (DOT).

ACTION: Notice of availability.

SUMMARY: This notice transmits the revised minimum performance measures that State Highway Safety Offices use in their triennial Highway Safety Plans.

FOR FURTHER INFORMATION CONTACT:

For program issues: Barbara Sauers, Associate Administrator, Regional Operations and Program Delivery, National Highway Traffic Safety Administration; Telephone number: (202) 366-0144; Email: barbara.sauers@dot.gov.

For legal issues: Megan Brown, Attorney Advisor, Litigation & General Law, Office of the Chief Counsel, National Highway Traffic Safety Administration, 1200 New Jersey Avenue SE, Washington, DC 20590; Telephone number: (202) 366-1834; Email: Megan.Brown@dot.gov

SUPPLEMENTARY INFORMATION:

Table of Contents

I. Background

II. Performance Measure Development

III. Comment Response

IV. Performance Measure Framework

V. Best Practices for Performance Management

VI. Applicability Date

I. Background

Roadway deaths are unacceptable and preventable and State Highway Safety Office (SHSO) officials have a critical role in eliminating crashes that result in deaths and serious injuries. Performance management is a vital tool for States to use in developing and implementing their highway traffic safety programs. Performance measures increase transparency and can help improve program outcomes by providing a greater understanding of how safety issues are being addressed with highway safety grant funds. This notice sets forth the revised minimum performance measures that SHSO will use in their triennial Highway Safety Plans (3HSP) to develop and implement their programs.

The highway safety grant program statute ¹ requires States to submit performance measures to support State safety goals and for each countermeasure strategy for programming funds that a State includes in its 3HSP. These performance measures must demonstrate constant or improved performance and provide documentation of the current safety levels for each performance measure, quantifiable performance targets for each performance measure, and a justification for each performance target.²

¹ 23 U.S.C. 402(k)(4)(A).

² Id.

NHTSA first established minimum performance measures in coordination with the Governor's Highway Safety Association (GHSA) in 2008.³ Congress mandated the use of performance measures for all States in MAP-21 and continued the requirements under the FAST Act and BIL. Under statute, NHTSA must develop minimum performance measures in consultation with GHSA.⁴ Beginning with fiscal year (FY) 2010 HSPs, submitted to NHTSA in July 2009, all States and territories voluntarily agreed to include fourteen minimum performance measures. States were required to report targets beginning with their FY 2014 HSPs. In 2014, NHTSA and GHSA added a fifteenth measure addressing bicyclist fatalities.

³ “Traffic Safety Performance Measures for States and Federal Agencies” (DOT HS 811 025) (August 2008).

⁴ 23 U.S.C. 402(k)(4)(A).

This year, NHTSA, in consultation with GHSA, undertook the first comprehensive update of the minimum performance measures since they were originally published in 2008. This notice contains a description of that process and the resulting updated minimum performance measures.

II. Performance Measure Development

NHTSA, in consultation with GHSA, identified a diverse and representative list of stakeholders from NHTSA, SHSOs, and other organizations. This step was crucial to ensuring that the engagement process included perspectives from various sectors and individuals who could offer valuable insights into the performance measures. Additionally, an expert panel consisting of members of GHSA and NHTSA provided input and direction to the overall process. The expert panel regularly met to discuss feedback from the stakeholders and to help develop this framework.

Once stakeholders were identified, 57 listening sessions were held. There were 78 participants, comprised of representatives from NHTSA, GHSA, Federal Highway Administration (FHWA), National EMS Quality Alliance (NEMSQA), and additional State university research officials. Stakeholders shared their views on the effectiveness of the current core performance measures while suggesting opportunities for improvements.

On August 21, 2024, NHTSA hosted a virtual public listening session, allowing all interested parties to share their insights both orally and through written submissions to the online docket. A summary of the comments and NHTSA's responses are below. NHTSA used the results of the stakeholder and public listening sessions to develop this updated performance measure framework.

III. Comment Response

On August 21, 2024, NHTSA hosted a virtual public listening session, allowing all interested parties to share their insights both orally and through written submissions to the online docket. Several speakers delivered remarks during the session. A total of eighteen written comments representing seventeen organizations were submitted online by GHSA, the American Association of State Highway and Transportation Officials (AAHSTO), the American Association of Motor Vehicle Administrators (AAMVA), Center for Policing Equity, Coalition for Cyclist, Detroit Greenways Coalition, Driving School Associations of the Americas, Georgia Governor's Office of Highway Safety, Health by Design, Fines and Fees Justice Center, Idaho Office of Highway Safety, National Safety Council, The League of American Bicyclists, The Policing Project at New York University School of Law, Who Poo App, and a joint comment by Vera Institute of Justice, Color of Change, and Center for American Progress. Complete comments may be viewed at regulations.gov.⁵

⁵ www.regulations.gov/document/NHTSA-2024-0037-0001/comment.

Several commenters ⁶ submitted comments about NHTSA's programs and activities that fall outside the scope of this performance measure effort and will not be addressed further in this document. NHTSA appreciates those comments and will consider them where appropriate.

⁶ AAMVA; Center for Policing Equity; Coalitions 4 Cyclists; Driving School Associations of the Americas; Fines and Fees Justice Center; Georgia Governor's Office of Highway Safety; Healthy By Design; National Safety Council; Policing Project at New York University School of Law; Vision Zero Network; Who Poo App; joint comment by Vera Institute of Justice, Color of Change, and the Center for American Progress.

Many commenters submitted broad comments about the nature of NHTSA's performance measure program and how performance measures should be used. Several commenters ⁷ recommended that NHTSA ensure that the Safe System Approach is integrated into DOT grants. NHTSA encourages States to adopt the Safe System approach and incorporate its principles into their performance management framework. AASHTO requested that the revisions to the minimum performance measures decrease associated burdens and costs on the State. The performance measure framework developed and laid out in this notice was developed to provide States with increased flexibility to use performance measures that are most useful to their program. That increased flexibility should decrease burden. In addition, NHTSA plans to deploy an electronic grants management system (eGrants) that SHSOs will use to submit the 3HSPs due on July 1, 2026. NHTSA expects that eGrants will further streamline the process for submitting and reporting on performance measure information provided to NHTSA. Finally, GHSA recommended that NHTSA create resources and provide technical assistance to States to empower States in better program-specific evaluations. NHTSA currently offers training to States through the Transportation Safety Institute (TSI) on program evaluation and NHTSA's Regional Offices are available to provide technical assistance.

⁷ AASHTO; Fines and Fees Justice Center; GHSA; Idaho Office of Highway Safety; The League of American Bicyclists; National Safety Council; Vision Zero Network.

Many commenters ⁸ stressed the diversity and unique safety needs and priorities across States, and asked NHTSA to allow flexibility. The proposed framework allows States to select strategic core measures specific to their problem identification and to set other State-developed performance measures specific to their needs.

⁸ AASHTO; Georgia Governor's Office of Highway Safety; GHSA.

Healthy by Design argued that States should not be allowed to establish targets that anticipate an increase in fatalities. Conversely, AAMVA, the Georgia Governor's Office of Highway Safety, and GHSA all argued that the BIL's requirement for constant and improved performance has divorced performance targets from the data and has imposed penalties, such as increased oversight, on States that fail to meet their targets. AAMVA, AASHTO, and GHSA also argued that performance measures should be limited to areas where SHSOs have direct control over outcomes. As NHTSA has previously emphasized, ⁹ NHTSA strongly disagrees that constant or improved performance targets are contrary to the data or that States lack the ability to influence safety numbers. Targets should reflect the outcomes that States expect to achieve after implementing their planned programs. If a projected outcome shows worsening safety levels, the State needs to change its planned program. Further, BIL requires States to submit only constant or improved performance measures, so NHTSA does not have the discretion to allow States to set worsening targets.

⁹ 87 FR 56756, 56767 (Sept. 15, 2022); 88 FR 7780, 7788 (Feb. 6, 2023).

Some commenters suggested various combinations of required measures based on measures currently required by both NHTSA and FHWA. GHSA and the Idaho Office of Highway Safety said that States should only be required to submit to NHTSA the five measures already required by FHWA.¹⁰ In this new framework, NHTSA requires three of the FHWA measures (number of fatalities, rate of fatalities, and number of serious injuries) as universal core performance measures. Healthy by Design requested that the rate of serious injuries and number of non-motorized injuries be classified as core performance measures. Those two measures are program-dependent, and their use will vary by State. As such, they are classified as State-developed performance measures that States can include if they have relevant programs and countermeasures.

¹⁰ Separately, the Idaho Office of Highway Safety also said that States should only be required to submit four of the five measures required by FHWA.

Six commenters ¹¹ requested that NHTSA remove the activity measures that were included in the minimum performance measures established in 2008, and that NHTSA not include any measures that incentivize law enforcement quota systems. Center for Policing Equity requested that NHTSA not include any measures that incentivize law enforcement quota systems but asked that NHTSA include new activity measures specific to law enforcement activities, including non-traditional enforcement actions. The League of American Bicyclists requested that NHTSA add an activity measure related to interagency collaboration on priority issues. NHTSA has removed all activity measures requirements from this new performance measure framework. However, State-developed performance measures may include activity measures.

¹¹ AASHTO; Center for Policing Equity Fines and Fees Justice Center; Healthy by Design; League of American Bicyclists; Policing Project at New York University School of Law.

Various commenters requested specific performance measures. The Georgia Governor's Office of Highway Safety recommended that NHTSA include performance measures for all nationally prioritized program areas. Both the Policing Project at New York University School of Law and the joint comment of Vera Institute of Justice, Color of Change, and the Center for American Progress recommended that NHTSA include performance measures specific to details of pursuit by law enforcement and traffic stops. Healthy by Design recommended that NHTSA consider adding a measure related to geographic location and post-crash care injury severity and treatment. The League of American Bicyclists and Vision Zero Network both recommended a performance measure related to observed speeding behavior. The Georgia Governor's Office of Highway Safety recommended a measure of “suspected: distracted driving crashes.” In this update of the performance measure framework, NHTSA was guided in large part by a desire to provide States with flexibility to implement programs in response to their unique safety problems, while also maintaining a discrete set of universal and strategic core performance measures that prioritize national-level issues that are addressed by States. As a result, NHTSA did not create performance measures at the level of detail requested by these commenters. However, States may choose to create these and other performance measures as a State-developed performance measure.

Four commenters ¹² recommended that NHTSA add expanded measures relating to pedestrian and bicyclist safety, including separate non-motorist fatalities and serious injuries performance measures. The Idaho Office of Highway Safety, however, recommended that NHTSA remove the combined fatality and serious injury performance measure. In order to allow States flexibility to address the demonstrated safety problems in their State, NHTSA has identified non-motorist fatalities as a strategic core performance measure that is required for any State that has an identified non-motorist safety problem and countermeasure strategy. In addition, States may create a State-developed performance measure for other, more specific, non-motorist issues.

¹² Detroit Greenways Coalition; Healthy by Design; League of American Bicyclists; Vizion Zero Network.

GHSA noted that if NHTSA opts to create a performance measure related to the grant program's statutory public participation and engagement requirements, that performance measure should be tied to the State's efforts to reach underrepresented communities, not how much funding those communities receive. The joint comment from Vera Institute of Justice, Color of Change, and the Center for American Progress recommended that NHTSA develop operational metrics of community engagement to assess level and type of engagement that went into the State's highway safety planning process. Section 402 places performance measures within the context of a State's safety levels.¹³ As a result, NHTSA does not have authority to require States to provide performance measures related to public participation. That said, NHTSA notes that NHTSA assesses State efforts in public participation and engagement as part of the 3HSP review process and through the Annual Report.

¹³ See 23 U.S.C. 402(k)(4)(A).

AAMVA, AASHTO, and the Georgia Governor's Office of Highway Safety requested that NHTSA allow States to consider additional target-setting methods beyond the rolling average. The Georgia Governor's Office of Highway Safety and Idaho Office of Public Safety requested that States be allowed to choose whether to express a target in terms of annual totals, or a three-or five-year rolling average. Under the new framework, States have the flexibility to choose the time period that is most appropriate for their State provided the target covers the 3HSP period. See the “Additional Requirements” section for additional information. The Georgia Governor's Office of Highway Safety and Vision Zero Network argued that measures should be normalized by the appropriate denominator to show true progress (e.g., population, licensed drivers, or VMT), especially for States with significant population changes. This can be addressed by States in their development of State-developed performance measures.

IV. Performance Measure Framework

Program-Driven Performance Measure Framework

In this document, NHTSA establishes an updated behavioral highway safety program-driven performance measure framework. This updated framework creates three categories of performance measures. Each of these categories are equally important and identifies required or recommended measures based on the State's program and the availability of standardized data. The three categories are:

(1) Universal core performance measures—measures required for all States. These universal core performance measures cover problem areas for which all recipients currently include countermeasure strategies.

(2) Strategic core performance measures—measures required for all States that have a corresponding countermeasure strategy in their 3HSP. These measures are required based on State-specific problem identification tied to countermeasure strategies.

(3) State-developed performance measures—additional measures developed by States based on their specific problem identification and tied to their countermeasure strategies.

As described in more detail, above, there was a general consensus among stakeholders for fewer required measures. However, some stakeholders sought specific additional measures to address emerging traffic safety issues within States. This program-driven performance measure framework system allows for both goals. Additionally, some performance measures are more (or less) relevant for some States than for others. For example, a State with large metropolitan areas may prioritize bicycle safety, while low-population rural States may have few bicyclist fatalities. This framework emphasizes a small set of universal performance measures that address problems faced by all States, while also including a set of strategic core performance measures that are required based on State-specific problem identification. It also offers increased flexibility and autonomy in programming State-specific priorities through the State-developed performance measures, as opposed to a one-size-fits-all approach. This framework lessens reporting burden by reducing the total number of measures required of all States while allowing the addition of measures relating to emerging issues specific to individual States. Flexibility and efficiency are increased by allowing States to focus on high-priority program areas to deploy resources to achieve the most significant reduction in fatalities and serious injuries.

The new performance management framework is described below. Note that this does not change the underlying performance plan and reporting requirements in NHTSA's Uniform Procedures for State Highway Safety Grant Programs (23 CFR part 1300). The highway safety grant program statute (23 U.S.C. 402(k)(4)(A)) requires States to submit performance measures to support State safety goals and for each countermeasure strategy for programming funds that a State includes in its 3HSP.

Universal Core Performance Measures

The universal core performance measures (UC) are required for all States. These measures include:

UC-1 Number of fatalities

UC-2 Number of serious injuries

UC-3 Fatalities per vehicle miles travelled (VMT)

UC-4 Number of unrestrained passenger vehicle occupant fatalities, all seat positions

UC-5 Number of fatalities involving a driver or motorcycle operator with a BAC over your State's legal limit

UC-6 Number of speeding-related fatalities

UC-7 Number of pedestrian fatalities

Strategic Core Performance Measures

Next, States must select strategic core performance measures from the below pre-set list if the State includes a corresponding countermeasure strategy in its 3HSP. These measures are based on State-specific problem identification tied to countermeasure strategies and were identified, in part, because relevant data sources are generally maintained across all states. These measures aim to reduce fatalities through problem identification and selected program areas tailored to address State needs. These measures include:

• Number of bicyclist and other cyclist fatalities

• Number of motorcyclist fatalities

• Number of drivers aged 20 or younger involved in fatal crashes

• Number of drivers aged 65 and older involved in fatal crashes

• Number of fatalities and serious injuries on rural roads

• Number of roadside fatalities (first responders, tow-truck drivers, roadway crew)

State-Developed Performance Measures

Lastly, States will include State-developed performance measures in their 3HSP. These measures will derive from State problem identification. They will be necessary to support countermeasure strategies for which there is no standardized measure of performance across all States and for which standardized datasets for all States do not yet exist. By incorporating these metrics, States can address localized challenges and enhance their overall traffic safety strategies. These are typically for program areas, countermeasure strategies, and topics that do not have a universal or strategic core measure that all States must track but may also be used in addition to existing measures. In these cases, a universal core measure is not sufficient on its own. This notice does not contain any required State-developed performance measures, but the examples below illustrate the types of performance measures that a State may choose to develop:

• Rate of serious injuries per 100 million VMT

• Rate of combined fatalities and serious injuries per 100 million VMT

• Child Passenger Safety, e.g., the number of improperly restrained child fatalities

• Emergency Medical Services (EMS), e.g., median response time for severely injured motor vehicle crash patient

• Drugged Driving, e.g., toxicology results, percent of DUI cases tested for drugs other than alcohol

• Distracted driving, e.g., observed cell phone/handheld electronic use for passenger vehicles, driver

• Traffic Records, e.g., completeness, accuracy

Additional Requirements

All performance measures must include a baseline documenting current safety levels, and a performance target that demonstrates constant or improved performance over the three-year period covered by the 3HSP with annual benchmarks to assist States in tracking performance.¹⁴

¹⁴ 23 CFR 1300.11(b)(3)(ii)(B).

A SHSO may express a target in terms of annual totals or three- or five-year rolling averages, depending on what is appropriate for their State. Below are examples of what this could look like using different time periods in the FY 2027-2029 3HSP.

Total fatalities | Current safety level | 2027 Benchmark | 2028 Benchmark | 2029 Target
Annual | 150 (2025 total) | 145 (2027 total) | 140 (2028 total) | 135 (2029 total).
3-year average | 155 (2023-2025 average) | 150 (2025-2027 average) | 145 (2026-2028 average) | 140 (2027-2029 average).
5-year average | 160 (2021-2025 average) | 155 (2023-2027 average) | 150 (2024-2028 average) | 145 (2025-2029 average).

For all fatality-based measures, FARS data will be used to determine if fatality-based targets are ultimately met. However, a SHSO may use State or FARS data to set the current safety level. And a SHSO may also use State data for the Performance Report section of the 3HSP and the Annual Report.

V. Best Practices for Performance Management

NHTSA encourages SHSOs to adopt a Safe System Approach and use robust procedures to set performance targets. Performance measures set the stage for an informed discussion of State performance, barriers to improvement, potential countermeasure strategies, and the expected benefits of safety activities. SHSOs should expand and engage more diverse stakeholders when establishing performance targets. Considering the viewpoints of underserved and overrepresented communities is critical for setting performance targets.

SHSOs should ensure that performance targets and measures are developed in cooperative partnerships based on data and objective information. The SHSO should use the most current available data to perform a trend analysis to help predict what is likely to happen. Using a data-driven decision process that accounts for the SHSO's programming and interventions helps maintain a focus on improvement. This approach helps make investment and policy decisions to achieve performance targets.

NHTSA acknowledges that States face many other considerations when setting performance targets. Each performance target must be treated individually instead of applying the same formula or giving a blanket statement about what factors were considered for the entire process. For example, suppose a primary seat belt law was recently enacted in your State. In that case, the State could expect to have a higher decrease in unbelted fatalities compared to other types of fatalities.

When setting targets, SHSOs should consider the following as part of their justification:

• Problem identification and trend analysis

• What data sources were considered?

• Which sociodemographic sources are considered?

• How will the program, countermeasure strategy, and project selections adjustments help meet the target?

• How were underserved and overrepresented communities considered?

• How has the SHSO engaged with stakeholders?

• Anticipated levels of effort

• Economic conditions

• Legislative changes

• Political support

• Has the State adopted the Safe System approach?

• Other local considerations such as other transportation efforts, employment patterns, weather, demographic changes, and travel patterns

Illustrative Examples

As a reminder, States are required to provide performance measures for every countermeasure strategy for programming funds in the 3HSP. Projects do not require specific performance measures but are instead associated with performance measures through their corresponding countermeasure strategy. This section provides context for when a State may need to submit a State-developed performance measure. For example, drugged or poly-substance impaired driving is listed as a State-developed performance measure because data is not consistently collected across States and territories, and State programs vary. NHTSA encourages States to look at ways to improve data collection related to drug impairment and testing. Suppose an SHSO includes a drug-impaired driving countermeasure strategy within the Impaired Driving program area. In that case, the State may not rely on the number of fatalities involving a driver or motorcycle operator with a BAC of .08 and above universal core performance measure as that measure is specific to alcohol-impaired driving. Instead, the SHSO must include a State-developed performance measure related to drugged driving. Other examples include if the SHSO has a Police Traffic Services program area that includes multiple topics such as speeding and distracted driving. In this example, the SHSO may not rely solely on the number of speeding-related fatalities performance measure. Rather, the SHSO may need to use a State-developed performance measure such as observed cell phone/handheld electronic, distracted driving fatalities, or another measure specific to the State's countermeasure strategies. Countermeasure strategies for topics such as traffic records may not rely on the universal core measures because none are relevant to traffic records. Instead, SHSOs will need to create a State-developed performance measure such as improvement in accuracy.¹⁵

¹⁵ For additional guidance in setting performance measures related to traffic records system, see Traffic Records Data Quality Management Guide: Update to the Model Performance Measures for State Traffic Records Systems, DOT HS 813 544 (Mar 2024). Available online at https://crashstats.nhtsa.dot.gov/Api/Public/ViewPublication/813544.

Further, even for program areas and countermeasure strategies for which there is a universal or strategic core performance measure, SHSOs are strongly encouraged to also develop additional State-developed performance measures to more specifically address their problem ID when appropriate. For example:

• In addition to UC-7 (number of pedestrian fatalities), a State could develop a separate measure for pedestrian fatalities for ages 18-34.

• In addition to number of motorcyclist fatalities, a State could develop a separate measure for number of unhelmeted fatalities.

• In addition to UC-4 (number of unrestrained passenger vehicle occupant fatalities, all seat positions), a State could develop a separate measure for observed seat belt use for passenger vehicles, front seat outboard passengers.

• In addition to UC-5 (number of fatalities involving a driver or motorcycle operator with a BAC over your State's legal limit), a State could develop a separate measure for Number of fatalities in crashes involving a driver or motorcycle operator with a blood alcohol concentration (BAC) of .05 and above.

VI. Applicability Date

SHSOs will submit performance measures aligning with this framework beginning with the 3HSP due to NHTSA on July 1, 2026, covering fiscal years 2027, 2028 and 2029.

Authority: 49 CFR 1.95 and 501.8(i).

Issued in Washington, DC.
Barbara Sauers,
Associate Administrator, Regional Operations and Program Delivery.

[FR Doc. 2024-31487 Filed 1-3-25; 8:45 am]

BILLING CODE P